DEPARTMENT OF HOMELAND SECURITY

Coast Guard

33 CFR Part 117

[CGD01-05-102]

RIN 1625-AA09

Drawbridge Operation Regulations: Housatonic River, CT

AGENCY: Coast Guard, DHS.

ACTION: Temporary final rule.

SUMMARY: The Coast Guard has temporarily changed the drawbridge operation regulations that govern the U.S. 1 Bridge, mile 3.5, across the Housatonic River, at Stratford, Connecticut. This temporary final rule allows the bridge owner to open only one of the two moveable spans for bridge openings at various times from January 9, 2006 through September 1, 2006, to facilitate bridge rehabilitation construction. Full bridge openings will be available at various times during the above time period after a seven-day notice is given by calling the number posted at the bridge.

DATES: This rule is effective from January 9, 2006 through September 1, 2006.

ADDRESSES: Comments and material received from the public, as well as documents indicated in this preamble as being available in the docket, are part of docket (CGD01-05-102) and are available for inspection or copying at the First Coast Guard District, Bridge Branch Office, 408 Atlantic Avenue, Boston, Massachusetts, 02110, between 7 a.m. and 3 p.m., Monday through Friday, except Federal holidays.

FOR FURTHER INFORMATION CONTACT: Ms. Judy Leung-Yee, Project Officer, First Coast Guard District, (212) 668-7195.

SUPPLEMENTARY INFORMATION:

Regulatory Information

On December 8, 2005, we published a notice of proposed rulemaking (NPRM) entitled “Drawbridge Operation Regulations”; Housatonic River, Connecticut, in the Federal Register (70 FR 72967). We received no comments in response to the notice of proposed rulemaking. No public hearing was requested and none was held.

Under 5 U.S.C. 553(d)(3), the Coast Guard finds that good cause exists for making this rule effective less than 30 days after publication in the Federal Register.

The bridge repairs scheduled to begin on January 9, 2006, are vital necessary repairs that must be performed with all due speed to assure the safe operation of the bridge. Any delay in making this rule effective would not be in the best interest of public safety and the marine interests that use the Housatonic River because failure to start the rehabilitation repairs on time could result in an unscheduled bridge operation failure.

There is only one commercial facility operator that normally requires the bridge to open. That facility will not be in service during the time period this rule will be in effect. The recreational vessels that normally use this waterway are small enough in size that they can either pass under the spans without a bridge opening or safely pass through the bridge with a single span opening.

Background and Purpose

The U.S. 1 Bridge, at mile 3.5, across the Housatonic River has a vertical clearance of 32 feet at mean high water and 37 feet at mean low water in the closed position. The existing operating regulations are listed at 33 CFR 117.207(a).

The owner of the bridge, Connecticut Department of Transportation, requested a temporary change to the drawbridge operation regulations for the U.S. 1 Bridge to allow single span openings while major bridge repairs were being made.

This temporary change allows the U.S. 1 bridge to open only one of the two moveable spans for bridge openings.

The Coast Guard believes this rule is reasonable because the single span bridge openings should not preclude any vessel traffic from passing through the bridge.

Only one commercial facility operator is located upstream from the U.S. 1 Bridge. That facility will not be operating during the time period this temporary rule will be in effect.

The recreational vessels that normally transit through the U.S. 1 Bridge are small enough in size that they can either pass under the spans without a bridge opening or transit safely with a single span opening.

Discussion of Comments and Changes

The Coast Guard received no comments in response to the notice of proposed rulemaking. The effective date was changed from January 2, 2006 to January 9, 2006, due to administrative delays.

Regulatory Evaluation

This rule is not a “significant regulatory action” under section 3(f) of Executive Order 12866, Regulatory Planning and Review, and does not require an assessment of potential costs and benefits under section 6(a)(3), of that Order. The Office of Management and Budget has not reviewed it under that Order. It is not “significant” under the regulatory policies and procedures of the Department of Homeland Security (DHS).

This conclusion is based on the fact that the bridge will continue to open for vessel traffic with a single moveable span which is sufficient for the present and anticipated needs of navigation during the effective period.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations less than 50,000.

The Coast Guard certifies under 5 U.S.C. 605(b), that this rule will not have a significant economic impact on a substantial number of small entities.

This conclusion is based on the fact that the bridge will continue to open for vessel traffic with a single moveable span which is sufficient for the present and anticipated needs of navigation during the effective period.

Assistance for Small Entities

Under section 213(a) of the Small Business Regulatory Enforcement Fairness Act of 1996 (Pub. L. 104-121), we offered to assist small entities in understanding the rule so that they could better evaluate its effects on them and participate in the rulemaking process.

No small entities requested Coast Guard assistance and none was given.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e), of the Instruction, from further environmental documentation considering that it relates to the promulgation of operating regulations or procedures for drawbridges. Under figure 2-1, paragraph (34)(e), of the instruction, an “Environmental Analysis Check List” and a “Categorical Exclusion Determination” are not required for this rule.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 33 CFR 1.05-1(g); Department of Homeland Security Delegation No. 0170.1; section 117.255 also issued under the authority of Pub. L. 102-587, 106 Stat. 5039.

2. From January 9, 2006 through September 1, 2006, § 117.207 is amended by suspending paragraph (a) and adding a temporary paragraph (c), to read as follows:

§ 117.207 Housatonic River.

* * * * *

(c) The draw of the U.S. 1 Bridge, mile 3.5, at Stratford, shall operate as follows:

(1) The draw shall open on signal, except that, from 7 a.m. to 9 a.m., Monday through Friday, and 4 p.m. through 5:45 p.m., daily, the draw need not open for the passage of vessel traffic.

(2) From January 9, 2006 through March 31, 2006, from 8 p.m. to 4 a.m., the draw shall open on signal if at least a six-hour notice is given by calling the number posted at the bridge.

(3) From January 9, 2006 through February 9, 2006, May 30, 2006 through June 30, 2006, and July 5, 2006 through September 1, 2006, only one of the two moveable spans need open for the passage of vessel traffic. Two span bridge openings shall be provided if at least a seven-day notice is given by calling the number posted at the bridge, except as provided in (c)(1) and (c)(2) of this section.

(4) From February 10, 2006 through April 1, 2006, and April 17, 2006 through May 26, 2006, only one of the two moveable spans need open for the passage of vessel traffic, except as provided in (c)(1) and (c)(2) of this section. No two span openings need be provided.

(5) From April 2, 2006 through April 16, 2006, May 27, 2006 through May 29, 2006, and July 1, 2006 through July 4, 2006, both moveable spans shall open for the passage of vessel traffic, except as provided in (c)(1) and (c)(2) of this section.

* * * * *

Dated: December 29, 2005.
David P. Pekoske,
Rear Admiral, U.S. Coast Guard, Commander, First Coast Guard District.

[FR Doc. 06-204 Filed 1-9-06; 8:45 am]

BILLING CODE 4910-15-P